DEPARTMENT OF THE INTERIOR

Fish and Wildlife Service

[FWS-HQ-LE-2016-N211; FF09L00200-FX-LE18110900000]

Information Collection Request Sent to the Office of Management and Budget (OMB) for Approval; Federal Fish and Wildlife Permit Applications and Reports—Law Enforcement

AGENCY: Fish and Wildlife Service, Interior.

ACTION: Notice; request for comments.

SUMMARY: We (U.S. Fish and Wildlife Service) have sent an Information Collection Request (ICR) to OMB for review and approval. We summarize the ICR below and describe the nature of the collection and the estimated burden and cost. This information collection is scheduled to expire on December 31, 2016. We may not conduct or sponsor and a person is not required to respond to a collection of information unless it displays a currently valid OMB control number. However, under OMB regulations, we may continue to conduct or sponsor this information collection while it is pending at OMB.

DATES: You must submit comments on or before January 30, 2017.

ADDRESSES: Send your comments and suggestions on this information collection to the Desk Officer for the Department of the Interior at OMB- OIRA at (202) 395-5806 (fax) or OIRA_Submission@omb.eop.gov (email). Please provide a copy of your comments to the Service Information Collection Clearance Officer, U.S. Fish and Wildlife Service, MS BPHC, 5275 Leesburg Pike, Falls Church, VA 22041-3803 (mail), or tina_campbell@fws.gov (email). Please include “1018-0092” in the subject line of your comments.

FOR FURTHER INFORMATION CONTACT: To request additional information about this ICR, contact Tina Campbell at tina_campbell@fws.gov (email) or 703-358-2676 (telephone). You may review the ICR online at http://www.reginfo.gov. Follow the instructions to review Department of the Interior collections under review by OMB.

SUPPLEMENTARY INFORMATION:

OMB Control Number: 1018-0092.

Title: Federal Fish and Wildlife Permit Applications and Reports—Law Enforcement, 50 CFR parts 13 and 14.

Service Form Numbers: 3-200-2, 3-200-3a, and 3-200-3b.

Type of Request: Extension of a currently approved collection.

Description of Respondents: Individuals, businesses, scientific institutions, and State, local, or tribal governments.

Respondent's Obligation: Required to obtain or retain a benefit.

Activity | Total annual responses | Completion time per response (hours) | Total annual burden hours | Hourly rate including benefits | $ Value of annual burden hours *
3-200-2—Designated Port Exception Permit (application and recordkeeping):
Private Sector | 755 | 1.25 | 944 | $25.18 | $23,770
Individuals | 629 | 1.25 | 786 | 34.69 | 27,266
Government | 14 | 1.25 | 18 | 45.14 | 813
3-200-2 Subtotal | 1,398 |  | 1748 |  | 51,849
Designated Port Exception Permit Report (private sector) | 5 | 1 | 5 | 25.18 | 126
3-200-3a—Import/Export License—U.S. Entities (application and recordkeeping (private sector)) | 9,225 | 1.25 | 11,531 | 25.18 | 290,350
3-200-3b—Import/Export License—Foreign Entities (application and recordkeeping (private sector)) | 126 | 1.25 | 158 | 25.18 | 3,979
Import/Export License Report (priv. sector) | 10 | 1 | 10 | 25.18 | 252
Totals | 10,764 |  | 13,452 |  | 346,556

Estimated Annual Nonhour Burden Cost: $1,073,500.

Abstract: The Endangered Species Act (16 U.S.C. 1531 et seq.; ESA) makes it unlawful to import or export wildlife or wildlife products for commercial purposes without first obtaining an import/export license (see 16 U.S.C. 1538(d)). The ESA also requires that fish or wildlife be imported into or exported from the United States only at a designated port or at a nondesignated port under certain limited circumstances (see 16 U.S.C. 1538(f)). This information collection includes the following permit/license application forms:

(1) FWS Form 3-200-2 (Designated Port Exception Permit). Under 50 CFR 14.11, it is unlawful to import or export wildlife or wildlife products at ports other than those designated in 50 CFR 14.12 unless you qualify for an exception. The following exceptions allow qualified individuals, businesses, or scientific organizations to import or export wildlife or wildlife products at a nondesignated port:

(a) To export the wildlife or wildlife products for scientific purposes;

(b) To minimize deterioration or loss; or

(c) To relieve economic hardship.

To request authorization to import or export of wildlife or wildlife products at nondesignated ports, applicants must complete FWS Form 3-200-2. Designated port exception permits can be valid for up to 2 years. We may require a permittee to file a report on activities conducted under authority of the permit.

(2) FWS Form 3-200-3a and 3-3b (Import/Export License). It is unlawful to import or export wildlife or wildlife products for commercial purposes without first obtaining an import/export license (50 CFR 14.91). Applicants located in the United States must complete FWS Form 3-200-3a to request this license. Foreign applicants that reside or are located outside the United States must complete FWS Form 3-200-3b to request this license. We use the information that we collect on the application as an enforcement tool and management aid to (a) monitor the international wildlife market and (b) detect trends and changes in the commercial trade of wildlife and wildlife products. Import/export licenses are valid for up to 1 year. We may require a licensee to file a report on activities conducted under authority of the import/export license.

Permittees and licensees must maintain records that accurately describe each importation or exportation of wildlife or wildlife products made under the license, and any additional sale or transfer of the wildlife or wildlife products. In addition, licensees must make these records and the corresponding inventory of wildlife or wildlife products available for our inspection at reasonable times, subject to applicable limitations of law. We believe the burden associated with these recordkeeping requirements is minimal because the records already exist. Importers and exporters must complete FWS Form 3-177 (Declaration for Importation or Exportation of Fish or Wildlife) for all imports or exports of wildlife or wildlife products. This form provides an accurate description of the imports and exports. OMB has approved the information collection for FWS Form 3-177 and assigned OMB Control Number 1018-0012. Normal business practices should produce records (e.g., invoices or bills of sale) needed to document subsequent sales or transfers of the wildlife or wildlife products.

Comments: On September 6, 2016, we published in the Federal Register (81 FR 61239) a notice of our intent to request that OMB renew approval for this information collection. In that notice, we solicited comments for 60 days, ending on November 7, 2016. We received no comments in response to this notice.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: December 23, 2016.
Tina A. Campbell,
Chief, Division of Policy and Directives Management, U.S. Fish and Wildlife Service.

[FR Doc. 2016-31584 Filed 12-28-16; 8:45 am]

BILLING CODE 4333-15-P